DEPARTMENT OF ENERGY

10 CFR Part 430

[Docket No. EERE-2010-BT-STD-0011]

RIN 1904-AC22

Energy Efficiency Program: Energy Conservation Standards Furnace Fans: Public Meeting and Availability of the Framework Document

AGENCY: Office of Energy Efficiency and Renewable Energy, Department of Energy.

ACTION: Notice of public meeting and availability of the framework document.

SUMMARY: The U.S. Department of Energy (DOE) is initiating the rulemaking and data collection process to consider establishing new energy conservation standards or energy use standards for the use of electricity for purposes of circulating air through duct work of residential heating and cooling systems (hereinafter referred to as “furnace fans”). To inform interested parties and to facilitate this process, DOE has prepared a framework document that details the analytical approach and scope of coverage for the rulemaking, and identifies several issues on which DOE is particularly interested in receiving comment. DOE will hold an informal public meeting to discuss and receive comments on its analytical approach and the issues it will address in this rulemaking proceeding. DOE welcomes written comments from the public on any subject within the scope of this rulemaking. A copy of the framework document is available at: http://www.eere.energy.gov/buildings/appliance_standards/residential/furnace_fans.html.

DATES: DOE will hold a public meeting on Friday, June 18, 2010, from 9 a.m. to 4 p.m., in Washington, DC. DOE must receive requests to speak at the public meeting before 4 p.m., Friday, June 4, 2010. DOE must receive a signed original and an electronic copy of the statement to be given at the public meeting before 4 p.m., Friday, June 11, 2010. DOE will accept written comments, data, and information regarding the framework document before and after the public meeting, but no later than July 6, 2010.

ADDRESSES: The public meeting will be held at the U.S. Department of Energy, Forrestal Building, Room 8E-089, 1000 Independence Avenue, SW., Washington, DC 20585-0121. Please note that foreign nationals planning to participate in the public meeting are subject to advance security screening procedures. If a foreign national wishes to participate in the public meeting, please inform DOE of this fact as soon as possible by contacting Ms. Brenda Edwards at (202) 586-2945 so that the necessary procedures can be completed.

Interested parties may submit comments, identified by docket number EERE-2010-BT-STD-0011 and/or Regulation Identifier Number (RIN) 1904-AC22, by any of the following methods:

• Federal eRulemaking Portal: http://www.regulations.gov. Follow the instructions for submitting comments.

• E-mail: FurnFans-2010-STD-0011@ee.doe.gov. Include docket number EERE-2010-BT-STD-0011 and/or RIN 1904-AC22 in the subject line of the message.

• Mail: Ms. Brenda Edwards, U.S. Department of Energy, Building Technologies Program, Mailstop EE-2J, Framework Document for Furnace Fans, Docket No. EERE-2010-BT-STD-0011 and/or RIN 1904-AC22, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Docket: For access to the docket to read background documents, a copy of the transcript of the public meeting, or comments received, go to the U.S. Department of Energy, Resource Room of the Building Technologies Program, Sixth Floor, 950 L'Enfant Plaza, SW., Washington, DC 20024, (202) 586-2945, between 9 a.m. and 4 p.m., Monday through Friday, except Federal holidays. Please call Ms. Brenda Edwards first at the above telephone number for additional information regarding visiting the Resource Room.

FOR FURTHER INFORMATION CONTACT: Mr. Mohammed Khan, U.S. Department of Energy, Office of Energy Efficiency and Renewable Energy, Building Technologies, EE-2J, 1000 Independence Avenue, SW., Washington, DC 20585-0121. Telephone: (202) 586-7892. E-mail: Mohammed.Khan@ee.doe.gov.

Mr. Eric Stas, U.S. Department of Energy, Office of the General Counsel, GC-71, 1000 Independence Avenue, SW., Washington, DC 20585-0121. Telephone: (202) 586-9507. E-mail: Eric.Stas@hq.doe.gov.

For information on how to submit or review public comments and on how to participate in the public meeting, contact Ms. Brenda Edwards, U.S. Department of Energy, Office of Energy Efficiency and Renewable Energy, Building Technologies Program, EE-2J, 1000 Independence Avenue, SW., Washington, DC 20585-0121. Telephone (202) 586-2945. E-mail: Brenda.Edwards@ee.doe.gov.

SUPPLEMENTARY INFORMATION: Part A of the Energy Policy and Conservation Act of 1975 (EPCA), Public Law 94-163, (42 U.S.C. 6291-6309) established the Energy Conservation Program for Consumer Products Other Than Automobiles, a program covering most major household appliances. Subsequent amendments to EPCA have given DOE expanded authority to regulate the energy efficiency of several other products, including the use of electricity for purposes of circulating air through duct work of residential heating and cooling systems (furnace fans), which is the focus of this notice. Section 135(c) of the Energy Policy Act (EPACT) of 2005, Public Law 109-58, amended section 325 of EPCA by giving DOE the authority to consider and prescribe energy conservation standards or energy use standards for electricity used for the purposes of circulating air through duct work. (42 U.S.C. 6295(f)(4)(D)) Section 304 of the Energy Independence and Security Act of 2007 (EISA 2007), Public Law 110-140, further amended section 325 of EPCA by mandating that the Secretary publish a final rule establishing energy conservation or energy use standards “not later than December 31, 2013.” (42 U.S.C. 6295(f)(4)(D)) This framework document is being published as a first step towards meeting this statutory requirement.

In addition to requiring DOE to establish new energy conservation standards or energy use standards for furnace fans, EPCA generally directs DOE to establish test procedures for new covered products, such as furnace fans. (42 U.S.C. 6295(r)) Furthermore, section 310(3) of the Energy Independence and Security Act of 2007 (EISA 2007) amended EPCA to require that any new or amended energy conservation standard adopted after July 1, 2010, shall address standby mode and off mode energy use pursuant to 42 U.S.C. 6295(o). (42 U.S.C. 6295(gg)(3)) Pursuant to these mandates, DOE is also initiating a furnace fan test procedure rulemaking at this time. Accordingly, DOE is including in this framework document its preliminary review of any industry test procedures or testing methods used to characterize the performance of furnace fans in all modes of operation. DOE has also outlined a number of issues for comment regarding the testing of furnace fans, and it will consider the feedback received in response to this framework document in its development of a proposed test procedure for furnace fans. DOE intends to issue a separate notice of proposed rulemaking (NOPR) addressing the test procedures for furnace fans. When the furnace fan test procedure final rule is published, DOE will have complied with EPCA's statutory requirements for test procedures.

To initiate the furnace fan rulemaking, DOE has prepared a framework document to explain the issues, analyses, and processes it anticipates using in considering the development of new energy conservation standards or energy use standards for furnace fans. Also included in this framework document is a detailed summary of a preliminary test procedure that DOE is considering for use in developing its own test procedure and for use in the development of energy conservation standards for furnace fans.

The main focus of the public meeting noted above will be to discuss the analyses presented and issues identified in the framework document. At the public meeting, DOE will make a number of presentations, invite discussion on the rulemaking process as it applies to certain furnace fans, and solicit comments, data, and information from participants and other interested parties. DOE will also invite comment on its preliminary determination of the scope of coverage for the furnace fan energy conservation standard and its preliminary analysis of the development of a test procedure for furnace fans.

DOE encourages those who wish to participate in the public meeting to obtain the framework document and to be prepared to discuss its contents. A copy of the framework document is available at: www.eere.energy.gov/buildings/appliance_standards/residential/furnace_fans.html.

Public meeting participants need not limit their comments to the issues identified in the framework document. DOE is also interested in comments on other relevant issues that participants believe would affect energy conservation standards or energy use standards for this product, applicable test procedures, or the preliminary determination on the scope of coverage. DOE invites all interested parties, whether or not they participate in the public meeting, to submit in writing by July 6, 2010 comments and information on matters addressed in the framework document and on other matters relevant to DOE's consideration of new standards for furnace fans.

The public meeting will be conducted in an informal, facilitated, conference style. There shall be no discussion of proprietary information, costs or prices, market shares, or other commercial matters regulated by U.S. antitrust laws. A court reporter will record the proceedings of the public meeting, after which a transcript will be available for purchase from the court reporter and placed on the DOE Web site at: www.eere.energy.gov/buildings/appliance_standards/residential/furnace_fans.html.

After the public meeting and the close of the comment period, DOE will begin collecting data, conducting the analyses as discussed in the framework document and at the public meeting, and reviewing the public comments. These actions will be taken to develop an energy conservation standards NOPR and separate test procedure NOPR for furnace fans.

DOE considers public participation to be a very important part of the process for setting energy conservation standards. DOE actively encourages the participation and interaction of the public during the comment period in each stage of the rulemaking process. Beginning with the framework document, and during each subsequent public meeting and comment period, interactions with and between members of the public provide a balanced discussion of the issues and assist DOE in the standards rulemaking process. Anyone who wishes to participate in the public meeting, receive meeting materials, or be added to the DOE mailing list to receive future notices and information about this rulemaking should contact Ms. Brenda Edwards at (202) 586-2945, or via e-mail at Brenda.Edwards@ee.doe.gov.

Issued in Washington, DC, on May 27, 2010.
Cathy Zoi,
Assistant Secretary, Energy Efficiency and Renewable Energy.

[FR Doc. 2010-13387 Filed 6-2-10; 8:45 am]

BILLING CODE 6450-01-P